DEPARTMENT OF COMMERCE

Submission for OMB Review; Comment Request

The Department of Commerce will submit to the Office of Management and Budget (OMB) for clearance the following proposal for collection of information under the provisions of the Paperwork Reduction Act (44 U.S.C. Chapter 35).

Agency: U.S. Department of Commerce—Economic Development Administration.

Title: FY15 IMCP Federal Interagency Competition Electronic Application Tool.

OMB Control Number: 0610-0107.

Form Number(s): None.

Type of Request: Regular submission.

Number of Respondents: 80.

Average Hours per Response: 10.

Burden Hours: 800.

Needs and Uses: The Economic Development Administration (EDA) has been asked by the White House to lead an initiative in partnership with the National Economic Council entitled Investing in Manufacturing Communities Partnership (IMCP). IMCP is a government-wide initiative aiming to assist communities in cultivating an environment for businesses to create well-paying manufacturing jobs in regions across the country and thereby accelerate the resurgence of manufacturing. EDA must collect data from applicants who are applying for designation status. Designation as an IMCP manufacturing community will be given to communities with the best strategies for designing and making such investments in public goods.

Affected Public: Business or other for-profit (primary) organizations, Individuals or households, not-for-profit institutions, farms, federal government and state, local or tribal government.

Frequency: Reporting annually and other as prescribed by the FRN.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: June 11, 2015.
Sheleen Dumas,
Management Analyst, Office of the Chief Information Officer.

[FR Doc. 2015-14849 Filed 6-16-15; 8:45 am]

BILLING CODE 3510-34-P